DEPARTMENT OF COMMERCE

International Trade Administration

[C-570-017]

Certain Passenger Vehicle and Light Truck Tires From the People's Republic of China: Postponement of Preliminary Determination in Countervailing Duty Investigation

AGENCY: Enforcement and Compliance, International Trade Administration, Department of Commerce.

DATES: Effective Date: August 14, 2014.

FOR FURTHER INFORMATION CONTACT: Emily Halle, AD/CVD Operations, Office VII, Enforcement and Compliance, International Trade Administration, U.S. Department of Commerce, 14th Street and Constitution Avenue NW., Washington, DC 20230; telephone: (202) 482-0176.

SUPPLEMENTARY INFORMATION:

Background

On July 14, 2014, the Department of Commerce (the Department) initiated a countervailing duty (CVD) investigation of certain passenger vehicle and light truck tires (certain passenger tires) from the People's Republic of China (PRC).¹ Currently, the preliminary determination is due no later than September 17, 2014.

¹ See Certain Passenger Vehicle and Light Truck Tires from the People's Republic of China: Initiation of Countervailing Duty Investigation, 79 FR 42285 (July 14, 2014).

Postponement of the Preliminary Determination

Section 703(b)(1) of the Tariff Act of 1930, as amended (the Act), requires the Department to issue the preliminary determination in a CVD investigation within 65 days after the date on which the Department initiated the investigation. However, if a petitioner makes a timely request for an extension in accordance with 19 CFR 351.205(e), section 703(c)(1)(A) of the Act allows the Department to postpone the preliminary determination until no later than 130 days after the date on which the Department initiated the investigation. Under 19 CFR 351.205(e), a petitioner must submit a request for postponement 25 days or more before the scheduled date of the preliminary determination and must state the reason for the request. The Department will grant the request unless it finds compelling reasons to deny the request.²

² 19 CFR 351.205(e).

The Department determines that the record supports postponing the preliminary determination in this investigation. On July 25, 2014, Petitioner ³ submitted a timely request pursuant to section 703(c)(l)(A) of the Act and 19 CFR 351.205(e) to postpone the preliminary determination, stating that the number and nature of the subsidy programs under investigation would prevent the Department from adequately examining them by the current deadline.⁴ Moreover, the record does not present any compelling reasons to deny the request. Therefore, in accordance with section 703(c)(l)(A) of the Act, the Department is hereby postponing the due date for the preliminary determination in this investigation to no later than 130 days after the day on which the investigation was initiated. As a result, the deadline for completion of the preliminary determination is now November 21, 2014.

³ United Steel, Paper and Forestry, Rubber, Manufacturing, Energy, Allied Industrial and Service Workers International Union, AFL-CIO-CLC.

⁴ See Letter from Petitioner, “Certain Passenger Vehicle and Light Truck Tires from the People's Republic of China—Petitioner's Request to Extend the Deadline for the Preliminary Determination,” July 25, 2014.

This notice is issued and published pursuant to section 703(c)(2) of the Act and 19 CFR 351.205(f)(l).

Dated: August 8, 2014.
Paul Piquado,
Assistant Secretary for Enforcement and Compliance.

[FR Doc. 2014-19276 Filed 8-13-14; 8:45 am]

BILLING CODE 3510-DS-P